DEPARTMENT OF ENERGY

Federal Energy Regulatory Commission

[Docket No. CP10-507-000]

ANR Pipeline Company; Notice of Request Under Blanket Authorization

October 4, 2010.

Take notice that on September 23, 2010, ANR Pipeline Company (ANR), 717 Texas Street, Suite 2400, Houston, Texas 77002-2761, filed a prior notice request pursuant to sections 157.205 and 157.216 of the Federal Energy Regulatory Commission's regulations under the Natural Gas Act (NGA) and ANR's blanket certificate issued in Docket No. CP82-480, for authorization to abandon an inactive section of pipeline. Specifically, ANR seeks to abandon approximately 10.08 miles of 8-inch diameter pipeline (Line 464-0803) between mileposts 19.08 and 9.00, located in Custer County, Oklahoma. ANR will abandon the pipeline in place with the exception of five side taps, approximately 659 feet of pipe over Deer Creek, and the pipe to be disconnected at milepost 9.00 which ANR will abandon by removal, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding the application should be directed to Rene Staeb, ANR Pipeline Company, 717 Texas Street, Suite 2400, Houston, Texas 77002-2761, telephone no. (832) 320-5215, facsimile no. (832) 320-6215 and e-mail: rene_staeb@transcanada.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. 2010-25512 Filed 10-8-10; 8:45 am]

BILLING CODE 6717-01-P